DEPARTMENT OF HEALTH AND HUMAN SERVICES

Centers for Disease Control and Prevention

National Center for Environmental Health/Agency for Toxic Substances and Disease Registry (NCEH/ATSDR); Notice of National Conversation on Public Health and Chemical Exposures Kick-Off Meeting

Time and Date: 8:30 a.m.-3:30 p.m., Friday, June 26, 2009.

Location: Ronald Reagan Building and International Trade Center, 1300 Pennsylvania Avenue, NW., Washington, DC 20004.

Status: Open to the public, limited only by the space available. The meeting room accommodates approximately 600 people.

Purpose: This meeting will launch the National Conversation on Public Health and Chemical Exposures, a collaborative initiative to identify and prioritize actions for revitalizing the nation's public health approach to chemical exposures.

Meeting Agenda: The meeting will include a plenary session featuring Dr. Howard Frumkin, Director of NCEH/ATSDR as well as other guests. The plenary will provide an overview of this stakeholder and public involvement initiative. Breakout sessions will provide participants with opportunities to discuss specific issues related to public health and chemical exposures.

National Conversation Project: The 18 month long National Conversation will offer many opportunities for involvement, including: Expert working groups, regional and local face-to-face public meetings, and Web-based discussions. The resulting action agenda will outline steps for NCEH/ATSDR and other institutions to take to better protect public health from harmful chemical exposures. NCEH/ATSDR is sponsoring this project.

Contact for Additional Information: If you would like to receive additional information on this meeting and initiative, please send your contact information to: nationalconversation@cdc.gov.

Dated: May 26, 2009.
James R. Seligman,
Chief Information Officer, Centers for Disease Control and Prevention.

[FR Doc. E9-12900 Filed 6-2-09; 8:45 am]

BILLING CODE P